DEPARTMENT OF HOMELAND SECURITY

Federal Emergency Management Agency

[Docket ID FEMA-2014-0002; Internal Agency Docket No. FEMA-B-1409]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona:
Maricopa | Town of Cave Creek (13-09-2950P) | The Honorable Vincent Francia, Mayor, Town of Cave Creek, 37622 North Cave Creek Road, Cave Creek, AZ 85331 | 37622 North Cave Creek Road, Cave Creek, AZ 85331 | http://www.msc.fema.gov/lomc | May 5, 2014 | 040129
Maricopa | Unincorporated areas of Maricopa County (13-09-2950P) | The Honorable Steve Chucri, Supervisor, District 2, Maricopa County, 301 West Jefferson, 10th Floor, Phoenix, AZ 85003 | 2801 West Durango Street, Phoenix, AZ 85003 | http://www.msc.fema.gov/lomc | May 5, 2014 | 040037
California: San Bernardino | City of Yucaipa (13-09-1511P) | The Honorable Denise Hoyt, Mayor, City of Yucaipa, 34272 Yucaipa Boulevard, Yucaipa, CA 92399 | 34272 Yucaipa Boulevard, Yucaipa, CA 92399 | http://www.msc.fema.gov/lomc | April 4, 2014 | 060739
Connecticut:
New Haven | City of West Haven (13-01-2240P) | The Honorable John M. Picard, Mayor, City of West Haven, 355 Main Street, West Haven, CT 06516 | City Hall, 355 Main Street, West Haven, CT 06516 | http://www.msc.fema.gov/lomc | May 29, 2014 | 090092
Fairfield | Town of Greenwich (13-01-2161P) | The Honorable Peter Tesei, First Selectman, Town of Greenwich, 101 Field Point Road, Greenwich, CT 06830 | Town Hall, 101 Field Point Road, Greenwich, CT 06830 | http://www.msc.fema.gov/lomc | April 11, 2014 | 090008
Idaho: Blaine | Unincorporated areas of Blaine County (12-10-1241P) | The Honorable Lawrence Schoen, Blain County Chairman, Board of Commissioners, 206 First Avenue South, Suite 300, Hailey, ID 83333 | Blaine County Planning & Zoning, 219 First Avenue South, Suite 208, Hailey, ID 83333 | http://www.msc.fema.gov/lomc | April 3, 2014 | 165167
Illinois:
DuPage | Village of Woodridge (13-05-5378P) | The Honorable Gina Cunningham-Pic, 5 Plaza Drive, Woodridge, IL 60517 | Village Hall, 5 Plaza Drive, Woodridge, IL 60517 | http://www.msc.fema.gov/lomc | May 2, 2014 | 170737
Will | Village of Bolingbrook (13-05-5378P) | The Honorable Roger C. Claar, Mayor, Village of Bolingbrook, 375 West Briarcliff Road, Bolingbrook, IL, 60440 | Village Hall, 375 West Briarcliff Road, Bolingbrook, IL, 60440 | http://www.msc.fema.gov/lomc | May 2, 2014 | 170812
Will | City of Naperville (13-05-8584P) | The Honorable A. George Pradel, Mayor, City of Naperville, 400 South Eagle Street, Naperville, IL 60540 | City Hall, 400 South Eagle Street, Naperville, IL 60540 | http://www.msc.fema.gov/lomc | May 12, 2014 | 170213
Will | Unincorporated areas of Will County (13-05-8584P) | The Honorable Lawrence M. Walsh, Will County Chairman, 302 North Chicago Street, Joliet, IL 60432 | Will County Land Use, 58 East Clinton Street, Suite 500, Joliet, IL 60432 | http://www.msc.fema.gov/lomc | May 12, 2014 | 170695
Will | City of Naperville (13-05-3255P) | The Honorable A. George Pradel, Mayor, City of Naperville, 400 South Eagle Street, Naperville, IL 60540 | City Hall, 400 South Eagle Street, Naperville, IL 60540 | http://www.msc.fema.gov/lomc | April 28, 2014 | 170213
Will | Unincorporated areas of Will County (13-05-3255P) | The Honorable Lawrence M. Walsh, Will County Chairman, 302 North Chicago Street, Joliet, IL 60432 | Will County Land Use, 58 East Clinton Street, Suite 500, Joliet, IL 60432 | http://www.msc.fema.gov/lomc | April 28, 2014 | 170695
Adams | City of Quincy (13-05-7063) | The Honorable Kyle A. Moore, Mayor, City of Quincy, 730 Maine Street, Quincy, IL 62301 | Quincy City Hall, 730 Maine Street, Quincy, IL 62301 | http://www.msc.fema.gov/lomc | March 18, 2014 | 170003
Adams | Unincorporated areas of Adams County (13-05-7063P) | The Honorable Les Post, 101 North 54th Street, Quincy, IL 62305 | Adams County Highway Department, 101 North 54th Street, Quincy, IL 62305 | http://www.msc.fema.gov/lomc | March 18, 2014 | 170001
Indiana: Hamilton | Town of Sheridan (13-05-7380P) | The Honorable David W. Kinkead, Council President, Town of Sheridan, 506 South Main Street, Sheridan, IN 46069 | 506 South Main Street, Sheridan, IN 46069 | http://www.msc.fema.gov/lomc | May 13, 2014 | 180516
Iowa:
Black Hawk | City of Cedar Falls (13-07-0495P) | The Honorable Jon Crews, 220 Clay Street, Cedar Falls, IA 50613 | Community Map Repository, 220 Clay Street, Cedar Falls, IA 50613 | http://www.msc.fema.gov/lomc | March 18, 2014 | 190017
Jefferson | City of Fairfield (13-07-1849P) | The Honorable Ed Malloy, Mayor, City of Fairfield, 118 South Main, Fairfield, IA 52556 | 118 South Main, Fairfield, IA 52556 | http://www.msc.fema.gov/lomc | May 30, 2014 | 190168
Linn County | City of Cedar Rapids (13-07-1848P) | The Honorable Ron Corbett, 101 First Street SE, Cedar Rapids, IA 52401 | 500 15th Avenue SW, Cedar Rapids, IA 52404 | http://www.msc.fema.gov/lomc | March 16, 2014 | 190187
Kansas:
Sedgwick | Unincorporated areas of Sedgwick County (13-07-1822P) | The Honorable James Skelton, Commissioner, 5TH District of Sedgwick County, 525 North Main, Suite 320, Wichita, KS 67203 | Office of Storm Water, Management, 455 North Main, 8TH Floor, Wichita, KS 67202 | http://www.msc.fema.gov/lomc | June 19, 2014 | 200321
Sedgwick | City of Wichita (13-07-1822P) | The Honorable Carl Brewer, Mayor, City of Wichita, 455 North Main, 1ST Floor, Wichita, KS 67202 | Code Enforcement Office, 144 South Seneca Street, Wichita, KS 67213 | http://www.msc.fema.gov/lomc | June 19, 2014 | 200328
Maine: Cumberland | City of Portland (13-01-1727P) | The Honorable Michael F. Brennan, Mayor, City of Portland, 389 Congress Street, Portland, ME 04101 | City Hall, 389 Congress Street, Portland, ME 04101 | http://www.msc.fema.gov/lomc | March 20, 2014 | 230051
Michigan: Ingham | Charter Township of Delhi (13-05-4699P) | The Honorable C.J. Davis, Supervisor, Charter Township of Delhi, 2074 Aurelius Road, Holt, MI 48842 | 2074 Aurelius Road, Holt, MI 48842 | http://www.msc.fema.gov/lomc | May 5, 2014 | 260088
Minnesota:
Ramsey | City of Arden Hills (13-05-5828P) | The Honorable Stan Harpstead, Mayor, City of Arden Hills, 1245 West Highway 96, Arden Hills, MN 55112 | 1245 West Highway 96, Arden Hills, MN 55112 | http://www.msc.fema.gov/lomc | May 01, 2014 | 270375
Washington | City of Oakdale (14-05-1498P) | The Honorable Carmen Sarrack, Mayor, City of Oakdale, 1584 Hadley Avenue North, Oakdale, MN 55128 | 1584 Hadley Avenue North, Oakdale, MN 55128 | http://www.msc.fema.gov/lomc | May 15, 2014 | 270511
Nebraska: Buffalo | City of Ravenna (13-07-2384P) | The Honorable Peg R. Dethlefs, Mayor, City of Ravenna, 416 Grand Avenue, Ravenna, NE 68869 | 416 Grand Avenue, Ravenna, NE 68869 | http://www.msc.fema.gov/lomc | May 12, 2014 | 310018
Ohio:
Cuyahoga | City of Solon (13-05-5208P) | The Honorable Susan A. Drucker, Mayor, City of Solon, 34200 Bainbridge Road, Solon, OH 44139 | 34200 Bainbridge Road, Solon, OH 44139 | http://www.msc.fema.gov/lomc | January 03, 2014 | 390130
Lucas | City of Toledo (13-05-0687P) | The Honorable Michael P. Bell, Mayor, City of Toledo, One Government Center, 640 Jackson Street, Suite 2200, Toledo, OH 43604 | Division of Engineering Services, 1 Lake Erie Center, Suite 300, Toledo, OH 43604 | http://www.msc.fema.gov/lomc | December 13, 2013 | 395373
Lucas | City of Toledo (13-05-0689P) | The Honorable Michael P. Bell, Mayor, City of Toledo, One Government Center, 640 Jackson Street, Suite 2200, Toledo, OH 43604 | Division of Engineering Services, 1 Lake Erie Center, Suite 300, Toledo, OH 43604 | http://www.msc.fema.gov/lomc | December 13, 2013 | 395373
Franklin | Unincorporated areas of Franklin County (13-05-7936P) | The Honorable John O'Grady, Franklin County Commissioner, 373 South High Street, 26TH Floor, Columbus, OH 43215 | 150 South Front Street, FSL Suite 10, Columbus, OH 43215 | http://www.msc.fema.gov/lomc | April 22, 2014 | 390167
Franklin | City of Columbus (13-05-6825P) | The Honorable Michael B. Coleman, Mayor, City of Columbus, 90 West Broad Street, 2nd Floor, Columbus, OH 43215 | 1250 Fairwood Avenue, Columbus, OH 43206 | http://www.msc.fema.gov/lomc | April 17, 2014 | 390170
Stark | City of Louisville (13-05-2237P) | The Honorable Patricia A. Fallot, Mayor, City of Louisville, 215 South Mill Street, Louisville, OH 44641 | 215 South Mill Street, Louisville, OH 44641 | http://www.msc.fema.gov/lomc | March 14, 2014 | 390516
Oregon:
Clackamas | City of Portland (13-10-1438P) | The Honorable Charlie Hales, Mayor, City of Portland, 1221 SW 4th Avenue, Room 340, Portland, OR 97204 | City of Portland Bureau of Environmental Services, 1120 SW 5th Avenue, Suite 1000, Portland, OR 97204 | http://www.msc.fema.gov/lomc | May 29, 2014 | 410183
Jackson | City of Medford (13-10-0817P) | The Honorable Gary Wheeler, Mayor, City of Medford, 411 West 8th Street, Medford, OR 97501 | Lausmann Annex, 200 South Ivy Street, Room 277, Medford, OR 97501 | http://www.msc.fema.gov/lomc | April 10, 2014 | 410096
Marion | City of Salem (13-10-1443P) | The Honorable Anna M Peterson, 555 Liberty Street Southeast, Salem, OR 97301 | City Hall, 555 Liberty Street Southeast, Salem, OR 97301 | http://www.msc.fema.gov/lomc | April 11, 2014 | 410167
Marion | City of Aumsville (13-10-1209P) | The Honorable Harold White, Mayor, City of Aumsville, 595 Main Street, Aumsville, OR 97325 | City Hall, 595 Main Street, Aumsville, OR 97325 | http://www.msc.fema.gov/lomc | March 14, 2014 | 410155
Marion | Unincorporated areas of Marion County (13-10-1209P) | The Honorable Patti Milne, PO Box 14500, Salem, OR 97309 | Marion County Department of Planning, 5155 Silverton Road NE, Salem, OR 97305 | http://www.msc.fema.gov/lomc | March 14, 2014 | 410155
Jackson | City of Ashland (13-10-1570P) | The Honorable John Stromberg, Mayor, City of Ashton, 20 East Main Street, Ashland, OR 97520 | 20 East Main Street, Ashland, OR 97520 | http://www.msc.fema.gov/lomc | March 18, 2014 | 410090
Rhode Island: Providence | Town of Smithfield (13-01-1817P) | The Honorable Alberto J. LaGreca, Jr., President, Smithfield Town Council, 64 Farnum Pike, Smithfield, RI 02917 | Town Hall, 64 Farnum Pike, Smithfield, RI 02917 | http://www.msc.fema.gov/lomc | April 3, 2014 | 440025
Virginia:
Wythe | Town of Wytheville (13-03-1765P) | The Honorable Trenton G. Crewe, Jr., Mayor, Town of Wytheville, 150 East Monroe Street, Wytheville, VA 24382 | 150 East Monroe Street, Wytheville, VA 24382 | http://www.msc.fema.gov/lomc | May 15, 2014 | 510181
Wythe | Unincorporated areas of Wythe County (13-03-1765P) | The Honorable Danny C. McDaniel, Chair, Wythe County Board of Supervisors, 340 South 6th Street, Suite A, Wytheville, VA 24382 | 340 South 6th Street, Suite A, Wytheville, VA 24382 | http://www.msc.fema.gov/lomc | May 15, 2014 | 510180
Washington: King | City of Burien (14-10-0009P) | The Honorable Lucy Krakowiak, Mayor, City of Burien, 400 Southwest 152nd Street, Suite 300, Burien, WA 98166 | 400 Southwest 152nd Street, Suite 300, Burien, WA 98166 | http://www.msc.fema.gov/lomc | June 16, 2014 | 550321
Wisconsin:
Outagamie | City of Appleton (13-05-7920P) | The Honorable Tim Hanna, Mayor, City of Appleton, 100 North Appleton Street, Appleton, WI 54911 | City Hall, 100 North Appleton Street, Appleton, WI 54911 | http://www.msc.fema.gov/lomc | June 5, 2014 | 555542
Fond Du Lac | City of Waupun (13-05-8521P) | The Honorable Jodi Steger, Mayor, City of Waupun, 201 East Main Street, Waupun, WI 53963 | 201 East Main Street, Waupun, WI 53963 | http://www.msc.fema.gov/lomc | April 2, 2014 | 550108
Rock | City of Beloit (13-05-3956P) | The Honorable Larry N. Arft, City Manager, City of Beloit, 100 State Street, Beloit, WI 53511 | City Hall, 100 State Street, Beloit, WI 53511 | http://www.msc.fema.gov/lomc | April 1, 2014 | 555544
Sheboygan | City of Plymouth (13-05-5518P) | The Honorable Don Pohlman, Mayor, City of Plymouth, 128 Smith Street, Plymouth, WI 53073 | City Hall, 128 Smith Street, Plymouth, WI 53073 | http://www.msc.fema.gov/lomc | March 21, 2014 | 550428
Outagamie | Unincorporated areas of Outagamie County (13-05-7384P) | The Honorable Robert Paltzer, Jr., 410 South Walnut Street, Appleton, WI 54911 | County Administration Building, 410 South Walnut Street, Appleton, WI 54911 | http://www.msc.fema.gov/lomc | March 24, 2014 | 550302
Kenosha | City of Kenosha (13-05-8170P) | The Honorable Jim Kreuser, Kenosha County Executive, 1010 56th Street, Kenosha, WI 53140 | 19600 75th Street, Kenosha, WI 53140 | http://www.msc.fema.gov/lomc | May 13, 2014 | 550523
Kenosha | Unincorporated areas of Kenosha County (13-05-8170P) | The Honorable Keith G. Bosman, Mayor, City of Kenosha, 625 52nd Street, Room 300, Kenosha, WI 53140 | 625 52nd Street, Kenosha, WI 53140 | http://www.msc.fema.gov/lomc | May 13, 2014 | 550209
Brown | Village of Bellevue (13-05-5752P) | The Honorable Craig Beyl, President, Village of Bellevue, 2828 Allouez Avenue, Bellevue, WI 54311 | 2828 Allouez Avenue, Bellevue, WI 54311 | http://www.msc.fema.gov/lomc | March 13, 2014 | 550627
Green Lake | Unincorporated areas of Green Lake County (13-05-7472P) | Mr. Alan K. Shute, Land Development Director, Green Lake County, 571 County Road, Suite A, Green Lake, WI 54971 | 108 North Capron Street, Berlin, WI 54923 | http://www.msc.fema.gov/lomc | June 02, 2014 | 550165
Green Lake | City of Markesan (13-05-7472P) | The Honorable Richard Slate, Mayor, City of Mareson, 150 South Bridge Street, Markesan, WI 53946 | 150 South Bridge Street, Markesan, WI 53946 | http://www.msc.fema.gov/lomc | June 02, 2014 | 550169

(Catalog of Federal Domestic Assistance No. 97.022, “Flood Insurance.”)

Dated: March 7, 2014.
Roy E. Wright,
Deputy Associate Administrator for Mitigation, Department of Homeland Security, Federal Emergency Management Agency.

[FR Doc. 2014-06514 Filed 3-24-14; 8:45 am]

BILLING CODE 9110-12-P